DEPARTMENT OF TRANSPORTATION

Federal Aviation Administration

[Docket Number: 2023-1724]

Airport Investment Partnership Program

AGENCY: Federal Aviation Administration (FAA), DOT.

ACTION: Notice of receipt of application of Avon Park Executive Airport (AVO), Avon Park Florida; commencement of 60-day public review and comment period.

SUMMARY: The FAA has accepted for review the application for Avon Park Executive Airport's (AVO) participation in the Airport Investment Partnership Program (AIPP), under the terms and conditions of the AIPP and the FAA's Notice of AIPP Application Procedures. The filing date for AVO's application is noted as July 7, 2023. The City of Avon Park, the airport sponsor, selected Florida Airport Management as the private operator and negotiated a draft agreement for FAA review. The FAA has determined that the final application is substantially complete and accepted for review. The determination that the application is substantially complete results in the commencement of the FAA's review and is not an approval or disapproval of the proposed privatization application. The FAA is seeking information and comments from interested parties on the final application. The FAA will review the application, public comments, and any other relevant additional submission by the applicant or the public and issue a decision approving or disapproving the application. The AVO application is available for public review at http://www.regulations.gov. The docket number is FAA Docket Number 2023-1724.

DATES: September 22, 2023. Comments must be received by November 21, 2023. Comments that are received after that date will be considered only to the extent possible.

ADDRESSES: You may send written comments by any of the following methods:

• Federal eRulemaking Portal: Go to http://www.regulations.gov and follow the instructions for sending your comments electronically. Docket Number: FAA 2023-1724;

• Mail: Docket Management Facility, U.S. Department of Transportation, 1200 New Jersey Avenue SE, West Building Ground Floor, Room W12-140, Washington, DC 20590-0001;

• Hand Delivery: Deliver to mail address above between 9:00 a.m. and 5 p.m. EST, Monday through Friday, except Federal holidays;

• Fax: (202) 493-2251.

Identify all transmissions with “Docket Number FAA-2023-1724” at the beginning of the document.

FOR FURTHER INFORMATION CONTACT: Heather Haney, Airport Compliance Specialist, Airport Compliance and Management Analysis Division, ACO-100, Federal Aviation Administration, 800 Independence Avenue SW, Washington, DC 20591, telephone (202) 267-3085; or email Heather.Haney@faa.gov.

SUPPLEMENTARY INFORMATION: Title 49 U.S.C. 47134 establishes the AIPP and authorizes the DOT to grant exemptions from certain Federal statutory and regulatory requirements for airport privatization projects. The application procedures require the FAA to publish a notice of receipt of the final application in the Federal Register and accept public comment on the final application for a period of 60 days.

Examining the Application: The final application was filed under Docket Number FAA-2023-1724. You may examine the final application on the internet at: http://www.regulations.gov or in person at the Docket Operations office between 9:00 a.m. and 5:00 p.m. EST, Monday through Friday, except Federal holidays. The Docket Operations Office (800-647-5527) is located at the U.S. Department of Transportation, 1200 New Jersey Avenue SE, West Building Ground Floor, Room W12-140, Washington, DC 20590-0001. The Docket contains the application, the agreements, any comments received and other information. The City of Avon Park has also made copies of the final application available at https://www.avonpark.city/airport.

Title 49 of the U.S.C. 47134 authorizes the Secretary of Transportation, and through delegation, the FAA Administrator, to exempt a sponsor of a public use airport that has received Federal assistance, from certain Federal requirements in connection with the privatization of the airport by sale or lease to a private party. Specifically, the Administrator may exempt the sponsor from all or part of the requirements to use airport revenues for airport-related purposes, to pay back a portion of Federal grants upon the sale or lease of an airport, and to return airport property deeded by the Federal Government upon transfer of the airport. The Administrator is also authorized to exempt the private purchaser or lessee from the requirement to use all airport revenues for airport-related purposes, to the extent necessary to permit the purchaser or lessee to earn compensation from the operations of the airport.

On September 16, 1997, the FAA issued a notice of procedures to be used in applications for exemption under Airport Privatization Pilot Program (Notice of final application procedures for the Airport Privatization Pilot program: Application Procedures, 62 Federal Register 48693-48708, September 16, 1997, as modified, 62 FR 63211, Nov. 26, 1997). The FAA Reauthorization Act of 2018 amended Section 47134 by changing the name to Airport Investment Partnership Program, eliminated limitations on the number of airports that could participate along with several other changes. On April 20, 2021, the FAA issued a notice revising the application procedures for applying for FAA approval of the privatization or partial privatization of a federally obligated public airport to reflect the provisions of the AIPP (86 Federal Register 20586-20592, April 20, 2021). A request for participation in the Program must be initiated by the filing of either a preliminary or final application for exemption with the FAA.

The City of Avon Park submitted its final application to the Program, for Avon Park Executive on July 7, 2023. The FAA accepted the final application on August 4, 2023. The City intends to lease Avon Park Executive Airport (with the exception of the City's utility facility and the baseball field, located on airport property) in a partnership with Florida Airport Management, a private operator, for a lease term of 30 years, with a 10-year option and a nine-year option. Florida Airport Management intends to execute day-to-day operations and maintenance at the airport as well as complete the airport projects set forth in the 2014 Master Plan; the final term of the projects will complete by 2028. The 2014 Master Plan includes 13 remaining projects totaling $14,366,000 in 2015 dollars.

The City of Avon Park requested an exemption under 49 U.S.C. 47134(b)(1) and 47133 to permit the use of revenue from the lease of airport property, 49 U.S.C. 47134(b)(2) to forego the repayment of Federal grants; and Florida Airport Management asked for an exemption under 49 U.S.C. 47134(b)(3) to permit Florida Airport Management to earn compensation from the operation of the airport.

As part of its review of the final application, the FAA will consider all comments that are submitted by interested parties during the 60-day comment period for this notice.

Issued in Washington, DC, on September 19, 2023.
Kevin C. Willis,
Director, Office of Airport Compliance and Management Analysis.

[FR Doc. 2023-20597 Filed 9-21-23; 8:45 am]

BILLING CODE 4910-13-P